DEPARTMENT OF THE INTERIOR

National Park Service

Notice of Intent to Repatriate Cultural Items in the Possession of the Peabody Museum of Archaeology and Ethnology, Harvard University, Cambridge, MA; Correction

AGENCY: National Park Service, Interior.

ACTION: Notice; correction.

Notice is here given in accordance with the Native American Graves Protection and Repatriation Act (NAGPRA), 43 CFR 10.8 (f), of the intent to repatriate cultural items in the possession of the Peabody Museum of Archaeology and Ethnology, Harvard University, Cambridge, MA, that meet the definition of unassociated funerary objects under 25 U.S.C. 3001.

This notice is published as part of the National Park Service's administrative responsibilities under NAGPRA, 25 U.S.C. 3003 (d)(3). The determinations within this notice are the sole responsibility of the museum, institution, or Federal agency that has control of the Native American cultural items. The National Park Service is not responsible for the determinations within this notice.

This notice corrects the number of unassociated funerary objects reported in a notice of intent to repatriate published in the Federal Register on October 5, 2001 (FR Doc. 01-24965, pages 51064-65). A review of museum records resulted in the identification of two additional unassociated funerary objects from the Silverheels site in Brant, NY.

Paragraph 3 of the October 5, 2001, notice is corrected by substituting the following paragraph:

The 626 cultural items are ceramic sherds and vessels; projectile points, flaked chert tools and debitage; gun flint; notched stone; shell objects; a bone awl and disc; drilled bear and beaver teeth; shell, glass, copper, and stone beads; a copper tinkler; a brass ring; metal ornaments; an iron axe; pendants; an antler doll; red ochre; paint stones; and stone, wooden, and ceramic pipes.

Paragraph 12 of the October 5, 2001, notice is corrected by substituting the following paragraph:

In 1903, 210 cultural items were recovered from the Silverheels site in Brant, NY, during a Peabody Museum of Archaeology and Ethnology expedition led by M.R. Harrington and A.C. Parker. The objects include ceramic sherds and vessels; cherts points and flakes; glass, copper, and catlinite beads; an animal skin fragment; shell objects; an antler doll; raccoon bacula; red ochre; paint stones; a ceramic rim sherd; and a ceramic jar.

Paragraphs 19 and 20 of the October 5, 2001, notice are corrected by substituting the following three paragraphs:

Officials of the Peabody Museum of Archaeology and Ethnology have determined that, pursuant to 25 U.S.C. 3001 3(B), the 626 cultural items described above are reasonably believed to have been placed with or near individual human remains at the time of death or later as part of the death rite or ceremony and are believed, by a preponderance of the evidence, to have been removed from specific burial sites of Native American individuals. Officials at the Peabody Museum of Archaeology and Ethnology also have determined that, pursuant to 25 U.S.C. 3001 (2), there is a relationship of shared group identity that can be reasonably traced between the unassociated funerary objects and the Cayuga Nation of New York, Oneida Nation of New York, Oneida Tribe of Indians of Wisconsin, Onondaga Nation of New York, St. Regis Band of Mohawk Indians of New York, Seneca Nation of New York, Seneca-Cayuga Tribe of Oklahoma, Tonawanda Band of Seneca Indians of New York, and Tuscarora Nation of New York.

Representatives of any other Indian tribe that believes itself to be culturally affiliated with the unassociated funerary objects should contact Patricia Capone, Repatriation Coordinator, Peabody Museum of Archaeology and Ethnology, Harvard University, 11 Divinity Avenue, Cambridge, MA 02138, telephone (617) 496-3702, before February 5, 2004. Repatriation of the unassociated funerary objects to the Cayuga Nation of New York, Oneida Nation of New York, Oneida Tribe of Indians of Wisconsin, Onondaga Nation of New York, St. Regis Band of Mohawk Indians of New York, Seneca Nation of New York, Seneca-Cayuga Tribe of Oklahoma, Tonawanda Band of Seneca Indians of New York, and Tuscarora Nation of New York may proceed after that date if no additional claimants come forward.

The Peabody Museum of Archaeology and Ethnology is responsible for notifying the Cayuga Nation of New York, Oneida Nation of New York, Oneida Tribe of Indians of Wisconsin, Onondaga Nation of New York, St. Regis Band of Mohawk Indians of New York, Seneca Nation of New York, Seneca-Cayuga Tribe of Oklahoma, Tonawanda Band of Seneca Indians of New York, and Tuscarora Nation of New York that this notice has been published.

Dated: November 17, 2003.
John Robbins,
Assistant Director, Cultural Resources.

[FR Doc. 04-143 Filed 1-5-04; 8:45 am]

BILLING CODE 4310-50-S